DEPARTMENT OF ENERGY

Federal Energy Regulatory Commission

[Project No. 14241-001]

Alaska Energy Authority; Notice of Intent To File License Application, Filing of Pre-Application Document (PAD), and Commencement of Pre-Filing Process; Notice of Intent To Prepare an Environmental Impact Statement and Conduct Scoping; Request for Comments on the PAD and Scoping Document, and Identification of Issues and Associated Study Requests

a. Type of Filing: Notice of Intent to File License Application for an Original License and Commencing Pre-filing Process.

b. Project No.: 14241-000.

c. Date Filed: December 29, 2011.

d. Submitted by: Alaska Energy Authority (AEA).

e. Name of Project: Susitna-Watana Hydroelectric Project.

f. Location: On the Susitna River at river mile 184 above the mouth, near Cantwell, in Matanuska-Susitna Borough, Alaska. The project would occupy federal lands currently administered by the U.S. Bureau of Land Management (BLM) but selected for potential acquisition by the State of Alaska under the Alaska Statehood Act, state lands administered by the Alaska Department of Natural Resources, and private lands owned by Alaska Native Corporations and others.

g. Filed Pursuant to: 18 CFR Part 5 of the Commission's Regulations

h. Potential Applicant Contact: Wayne Dyok, Susitna-Watana Project Manager, Alaska Energy Authority, 813 West Northern Lights Boulevard, Anchorage, AK 99503.

i. FERC Contact: David Turner at (202) 502-6091 or email at david.turner@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) The U.S. Fish and Wildlife Service and/or NOAA Fisheries under section 7 of the Endangered Species Act and the joint agency regulations thereunder at 50 CFR, Part 402 and (b) the State Historic Preservation Officer, as required by section 106, National Historical Preservation Act, and the implementing regulations of the Advisory Council on Historic Preservation at 36 CFR 800.2.

l. On January 23 and 30, 2012, respectively, we designated AEA as the Commission's non-federal representative for carrying out informal consultation, pursuant to section 7 of the Endangered Species Act and section 106 of the National Historic Preservation Act.

m. AEA filed with the Commission a Pre-Application Document (PAD; including a proposed process plan and schedule), pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

Register online at http://www.ferc.gov/docs-filing/esubscription.asp to be notified via email of new filing and issuances related to this or other pending projects. For assistance, contact FERC Online Support.

o. With this notice, we are soliciting comments on the PAD and Commission's staff Scoping Document 1 (SD1), as well as study requests. All comments on the PAD and SD1, and study requests should be sent to the address above in paragraph h. In addition, all comments on the PAD and SD1, study requests, requests for cooperating agency status, and all communications to and from Commission staff related to the merits of the potential application must be filed with the Commission. Documents may be filed electronically via the Internet.

p. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

All filings with the Commission must include on the first page, the project name (Susitna-Watana Hydroelectric Project) and number (P-14241-000), and bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by April 27, 2012.

p. We intend to prepare an Environmental Impact Statement (EIS) for this project. The scoping meetings identified below satisfy the NEPA scoping requirements.

Scoping Meetings

Commission staff will hold scoping meetings for the project at the time and place described below. The daytime meeting will focus on resource agency, Indian tribes, and non-governmental organization concerns, while the evening meetings are primarily for receiving input from the public. We invite all interested individuals, organizations, and agencies to attend one or all of the meetings, and to assist staff in identifying particular study needs, as well as the scope of environmental issues to be addressed in the environmental document.

Date | Time | Place
Monday, March 26, 2012 | 6 p.m.-10 p.m | Loussac Library, 3600 Denali Street, Anchorage, AK 99503.
Tuesday, March 27, 2012 | 9 a.m.-2 p.m | Loussac Library, 3600 Denali Street, Anchorage, AK 99503.
Tuesday, March 27, 2012 | 6 p.m.-10 p.m | Menard Memorial Sports Center, 1001 S. Mack Drive, Wasilla, AK 99654.
Wednesday, March 28, 2012 | 6 p.m.-10 p.m | Su-Valley Jr/Sr High School, 42728 S. Parks Highway, Sunshine, AK 99676.
Wednesday, March 28, 2012 | 6 p.m.-9 p.m | Caribou Café Banquet Room, 187 Glenn Highway, Glennallen, AK 99588.
Thursday, March 29, 2012 | 6 p.m.-10 p.m | Westmark Hotel & Conference Center, 813 Noble Street, Fairbanks, AK 99701.
Thursday, March 29, 2012 | 6 p.m.-10 p.m | Cantwell Community Hall, Milepost 133.1 on the Denali Hwy., Cantwell, AK 99729.

Scoping Document 1 (SD1), which outlines the subject areas to be addressed in the environmental document, was mailed to the individuals and entities on the Commission's mailing list. Copies of SD1 will be available at the scoping meetings, or may be viewed on the Web at http://www.ferc.gov, using the “eLibrary” link. Follow the directions for accessing information in paragraph n. Based on all oral and written comments, a Scoping Document 2 (SD2) may be issued. SD2 may include a revised process plan and schedule, as well as a list of issues, identified through the scoping process.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item n. of this document.

Meeting Procedures

The meetings will be recorded by a stenographer and will be placed in the public records of the project.

Dated: February 24, 2012.
Kimberly D. Bose,
Secretary.

[FR Doc. 2012-5136 Filed 3-1-12; 8:45 am]

BILLING CODE 6717-01-P